DEPARTMENT OF LABOR

Employment and Training Administration

Revised Schedule of Remuneration for the UC Program

Under section 8521(a)(2) of title 5 of the United States Code, the Secretary of Labor is required to issue from time to time, after consultation with the Secretary of Defense, a Schedule of Remuneration specifying the pay and allowances for each pay grade of members of the military services. The schedules are used to calculate the base period wages and benefits payable under the program of Unemployment Compensation for Ex-servicemembers (UCX).

This notice is to publish a revised schedule that reflects increases in military pay and allowances which were effective in July 2000.

Accordingly, the following new Schedule of Remuneration, issued pursuant to 20 CFR 614.12(c), applies to “First Claims” for UCX which are effective beginning with the first day of the first week which begins on or after October 1, 2000.

Pay grade | Monthly rate
(1) Commissioned Officers:
0-10 | 13,329
0-9 | 12,445
0-8 | 11,465
0-7 | 10,388
0-6 | 8,761
0-5 | 7,341
0-4 | 6,085
0-3 | 4,807
0-2 | 3,834
0-1 | 2,900
(2) Commissioned Officers With Over 4 Years Active Duty As An Enlisted Member Or Warrant Officer:
0-3E | 5,634
0-2E | 4,653
0-1E | 3,889
(3) Warrant Officers:
W-5 | 6,410
W-4 | 5,511
W-3 | 4,599
W-2 | 3,925
W-1 | 3,354
(4) Enlisted Personnel:
E-9 | 5,086
E-8 | 4,276
E-7 | 3,724
E-6 | 3,273
E-5 | 2,778
E-4 | 2,330
E-3 | 2,055
E-2 | 1,972
E-1 | 1,744

The publication of this new Schedule of Remuneration does not revoke any prior schedule or change the period of time for which any prior schedule was in effect.

Signed at Washington, DC, on June 26, 2000.
Raymond L. Bramucci,
Assistant Secretary of Labor.

[FR Doc. 00-16748 Filed 6-30-00; 8:45 am]

BILLING CODE 4510-30-M